DEPARTMENT OF HOMELAND SECURITY

Transportation Security Administration

RIN 1652-ZA12

Registered Traveler Interoperability Pilot Fees

AGENCY: Transportation Security Administration, DHS.

ACTION: Notice.

SUMMARY: The Transportation Security Administration (TSA) announces the establishment of the Service Provider Key Personnel Fee and the Registered Traveler Interoperability Pilot Participant Fee for the Registered Traveler Interoperability Pilot (RTIP). These fees will be collected to fund selected activities of the RTIP, a trusted traveler program that may provide expedited security screening for passengers who voluntarily provide biometric and biographic information to TSA, or a TSA agent, and successfully complete a security threat assessment. TSA currently is testing a pilot of the Registered Traveler program at Orlando International Airport. In the near future, TSA will begin the RTIP to test interoperability and other features of the program at selected airports. The Department of Homeland Security Appropriations Act of 2006 directs TSA to impose fees for the Registered Traveler Program by notice.

DATES: This notice is effective November 24, 2006.

FOR FURTHER INFORMATION CONTACT: John I. Martinez, Director, Registered Traveler Program, Office of Transportation Threat Assessment and Credentialing (TTAC), TSA-19, Transportation Security Administration, 601 South 12th Street, Arlington, VA 22202-4220; facsimile (571) 227-1936 e-mail: Registered.Traveler@dhs.gov.

SUPPLEMENTARY INFORMATION:

Availability of Notice Document

You can get an electronic copy using the Internet by—

(1) Searching the Department of Transportation's electronic Docket Management System (DMS) Web page (http://dms.dot.gov/search);

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section.

I. Statutory Authority

The Aviation and Transportation Security Act (ATSA), Pub. L. 107-71, (115 Stat. 597, 613, Nov. 19, 2001), sec. 109(a)(3), authorizes the Transportation Security Administration (TSA) to “establish requirements to implement trusted passenger programs and use available technologies to expedite security screening of passengers who participate in such programs, thereby allowing security screening personnel to focus on those passengers who should be subject to more extensive screening.” Pursuant to that authority, TSA is conducting the next pilot of the Registered Traveler (RT) program at 10-20 participating airports to further test and evaluate this type of trusted traveler program. This pilot program, known as the Registered Traveler Interoperability Pilot follows the results of two sets of RT pilots initiated by TSA in 2004-2005.

The Department of Homeland Security Appropriations Act of 2006 (Appropriations Act) permits TSA to recover the full cost of TSA activities relating to Registered Traveler and authorizes TSA to establish and amend fees by notices in the Federal Register. The Appropriations Act provides:

For fiscal year 2006 and thereafter, notwithstanding section 553 of title 5, United States Code, the Secretary of Homeland Security shall impose a fee for any registered traveler program undertaken by the Department of Homeland Security by notice in the Federal Register, and may modify the fee from time to time by notice in the Federal Register: Provided, That such fees shall not exceed the aggregate costs associated with the program and shall be credited to the Transportation Security Administration registered traveler fee account, to be available until expended.¹

¹ Department of Homeland Security Appropriations Act, 2006, Pub. L. 109-90 (119 Stat. 2064, 2088, Oct. 18, 2005), See. 540.

This notice announces and establishes the fees to fund activities related to RTIP as authorized under the Appropriations Act. As discussed below, TSA intends to fully fund its RTIP-related activities through the fees it establishes pursuant to this authority.

II. Registered Traveler Program

Under RTIP, travelers who are U.S. citizens, lawful permanent resident aliens, or nationals of the United States, may be eligible for expedited security screening for air travel if they voluntarily submit requested biometric and biographic information and successfully undergo a TSA-conducted security threat assessment in order to confirm that they do not pose a threat to transportation or national security.

RTIP is a private sector program, supported and overseen by TSA, with distinct roles and responsibilities for each participating entity. TSA is responsible for setting program standards, conducting security threat assessments, physical screening of RT participants at TSA checkpoints, and certain forms of oversight. The private sector Service Providers are responsible for enrollment of RT participants, verification of participants' RT status using biometric identification verification technologies as they enter the screening checkpoint, and related services. Airport and aircraft operators that are Sponsoring Entities will oversee their Service Providers and ensure their Service Providers comply with the requirements of the RTIP.

TSA began testing of an RT pilot in 2004-05 and currently is testing a pilot program at Orlando International Airport. TSA anticipates expanding this initial test phase of RT to the Register Traveler Interoperability Pilot which will include approximately 10—20 airports and airlines. These airports and airlines will begin participating in the RTIP as Sponsoring Entities once they make the necessary business arrangements with Service Providers and obtain TSA approval for the proposed configuration for RTIP operations at that airport. This approach allows TSA to confirm the private sector's ability to provide interoperability of the biometric identification verification technologies among RTIP airports, evaluate possible means to expedite screening for RT participants, and re-affirm that RT continues to maintain TSA's high security standards. As authorized by TSA, RTIP is intended to strengthen customer service for eligible air travelers while maintaining security at the TSA screening checkpoint.

Under the RTIP, Sponsoring Entities contract with Service Providers to perform enrollment and verification services. An RTIP Service Provider can be:

(1) An Enrollment Provider (EP) that collects the biographic and biometric information from RT applicants, collects all fees from RT applicants, and issues RT cards to RT participants after TSA's security threat assessment has been completed;

(2) A Verification Provider (VP) that confirms that the RT participant is an active participant in accordance with TSA-issued RT standards as the RT participant enters the screening checkpoint; or

(3) A combined Enrollment and Verification Provider. “Service Provider” is used in this document as a term of collective reference to RT vendors of all three categories.

Private sector Service Providers must meet qualification and participation criteria set by TSA in order to participate, including security requirements and oversight. As part of their security requirements, Service Providers are required to submit to a TSA-conducted participation review to confirm that the companies are legitimate businesses that do not pose, and are not suspected of posing, a threat to transportation or national security. Service Providers' key personnel will also need to provide information in order for TSA to determine that they do not pose, and are not suspected of posing, a threat to transportation or national security. Oversight may include, but is not limited to, announced and unannounced inspections of the Service Provider by TSA or by the Sponsoring Entity, the collection of metrics, and reconciliation of records, and reviews of the Service Providers' information technology security systems and documentation. The Sponsoring Entity is responsible for ensuring that these Service Providers meet TSA-mandated standards. TSA enforces these standards through the Sponsoring Entity (airport or air carrier), which is subject to inspection and regulation by TSA.

To enroll in the RTIP, applicants voluntarily provide RTIP Sponsoring Entities and Service Providers with biographic and biometric data needed for TSA to conduct the security threat assessment and determine eligibility.² The security threat assessment includes checking each applicant's biographic data against terrorist-related and immigration databases. RT applicants who receive an “approved” security threat assessment result from TSA may become RT participants.

² The Privacy Impact Assessment for RTIP is available on TSA's Web site at http://www.tsa.gov/assets/pdf/pia_tsa-rt_20060901.pdf.

Once a traveler qualifies as an approved RT participant, he or she will be able to take advantage of the benefits of the RTIP. RT participants may receive expedited passenger screening as well as other benefits. To obtain these benefits when traveling by air through participating RTIP airports, RT participants will verify their identity through biometric identity verification technologies at the screening checkpoint. This process also ensures that the individual is a currently “approved” RT participant. After the identity and current status of the RT participant are verified, the participant enters the checkpoint lane identified for registered travelers and undergoes the applicable TSA checkpoint screening. Depending on airport configuration and RT volume at particular airports, RT participants may be screened through a separate screening lane or may proceed to the front of lanes used by other travelers.

Additional information on RTIP may be obtained by contacting the individual listed under FOR FURTHER INFORMATION CONTACT, above, or on the Web at http://www.tsa.gov/what_we_do/layers/rt/index.shtm.

II. Fees

TSA has identified various RTIP-related activities that will be funded through fees. These activities include the following: conducting threat assessments on Service Provider employees who collect, handle, or use RT applicant or participant data and on officers, principals, and program managers responsible for RTIP operations (collectively “key personnel”); conducting security threat assessments on RT applicants; and conducting and managing TSA's responsibilities for the RTIP. By this notice, TSA is establishing its fees for conducting threat assessments of Service Providers' key personnel and the Registered Traveler Interoperability Pilot Participant Fee for the RTIP. This notice also describes the arrangement for negotiating how TSA may charge Sponsoring Entities for dedicated RT checkpoints should the cost of providing services and support is beyond what TSA is currently providing to the passengers.

A. Standards and Guidelines Used by TSA in Developing These Fees

When setting fees for services, TSA looks, to the extent possible, to the cost accounting concepts and standards recommended by the Federal Accounting Standards Advisory Board (FASAB). The FASAB, established in 1990, recommends accounting standards for the Federal Government. The FASAB defines ”full cost” to include ”direct and indirect costs that contribute to the output, regardless of funding sources.” See Federal Accounting Standards Advisory Board, “Statement of Financial Accounting Standards No. 4: Managerial Cost Accounting Concepts and Standards for the Federal Government 36” (July 31, 1995). To obtain full cost, FASAB identifies various classifications of costs to be included, and recommends various methods of cost assignment. See id. at pages 36-42. Full costs include, but are not limited to, an appropriate share of:

(1) Direct and indirect personnel costs, including salaries and fringe benefits, such as medical insurance and retirement;

(2) Physical overhead, consulting, and other indirect costs, including material and supply costs, utilities, insurance, travel and rents or imputed rents on land, buildings, and equipment; and

(3) Management and supervisory costs. Full costs are determined based upon the best available records of the agency.

B. Service Provider Key Personnel Fee

Why is TSA performing security threat assessments on Service Providers' key personnel?

Service Providers' key personnel will be responsible for collecting or accessing private and sensitive information about RT applicants. They are also responsible for maintaining the security and integrity of the process and information technology systems that will collect information and verify documents submitted by RT applicants and that will permit RT travelers to use the RT lines or lanes. TSA will conduct security threat assessments on Service Providers' key employees to determine whether there are reasons to believe that a key employee should not be allowed to have access to private or sensitive information or systems.

Which Service Provider personnel will be required to undergo security threat assessments?

Service Provider employees who collect, handle, or use RT applicant or participant data must undergo security threat assessments. Additionally, Service Provider officers, principals, and program managers who are responsible for RTIP operations must also undergo security threat assessments.

What is the fee for conducting a security threat assessment of a Service Provider's key personnel?

As part of TSA's review of a prospective Service Provider and its key personnel to confirm that they do not pose a threat to transportation or national security, TSA will conduct security threat assessments on the Service Provider's key personnel. Service Provider key personnel will submit their information to the American Association of Airport Executives (AAAE), which is under agreement with TSA to collect and process biographic and biometric information from these personnel. TSA will transmit the information to the Federal Bureau of Investigation (FBI) for a criminal history records check (CHRC) and will perform a name-based check of terrorist-related and immigration databases.

TSA will charge a total fee of $43.00 per person to conduct its threat assessment of key personnel. The fee is comprised of three components, discussed further below: (1) The amount that the American Association of Airport Executives (AAAE) charges to collect and forward biographic information and fingerprints (“Data Collection Fee”); (2) the amount that the FBI charges to conduct a CHRC (“FBI Fee”); and (3) the cost for TSA to conduct its security threat assessment. This threat assessment is valid for five years and must be renewed after five years.

1. Data Collection Fee. TSA has an agreement with AAAE to collect, process, and forward biographic information and fee payments from Service Providers' key personnel. AAAE will also process and forward the key personnel's fingerprints. Under the agreement, AAAE will charge $15.00 per person for its services. Because AAAE does not collect fingerprints from individuals, this fee does not include a charge for fingerprint collection. Key employees will likely provide their fingerprints to an airport authority or other law enforcement agency. These organizations may charge a fee to collecting the fingerprints and the fee may vary depending on where the individual decides to submit their fingerprints.

2. FBI Fee. As part of the security threat assessment, TSA submits fingerprints to the FBI to obtain any criminal history records that correspond to the fingerprints. The FBI is authorized to establish and collect fees to process fingerprint identification records. See 28 U.S.C. 534 nt. Pursuant to Criminal Justice Information Services Information Letter 93-3 (October 8, 1993), this fee is currently set at $22. If the FBI increases or decreases its fee to complete the CHRC, the increase or decrease will apply to this fee on the date that the new FBI fee becomes effective.

TSA will adjudicate the results of the CHRC based on the same list of disqualifying criminal offenses it uses for individuals seeking unescorted access to the security identification display area. This list is set forth in 49 CFR 1542.209(d).

3. Security Threat Assessment Cost. For the TSA security threat assessment process, each key personnel's information will be checked against terrorist-related and immigration databases and other governmental information sources so that TSA can determine whether the key personnel poses a security threat. TSA will also continuously vet key personnel. If an individual who has successfully undergone a security threat assessment initially subsequently is found not to meet TSA's criteria, the individual will no longer be allowed to participate in the RTIP.

TSA must implement and maintain the appropriate systems, resources, and personnel to ensure the following: that TSA is able to conduct security threat assessments; that fingerprints and applicant information are appropriately linked; that TSA can receive and act on the results of security threat assessments; and that TSA can perpetually re-vet key personnel. TSA must have the necessary resources—including labor, equipment, database access, and overhead—to complete the security threat assessment process.

Because the anticipated population size of key employees and officials is relatively small, TSA will be able to leverage existing infrastructure for conducting security threat assessments to minimize start-up costs. Using the current infrastructure, the cost of conducting a security threat assessment and adjudicating the results, including the CHRC, is $6.00 per person.

Will there be refunds if TSA denies individuals approval to conduct enrollment and verification operations (or are responsible for managing such persons)?

TSA will not refund the Service Provider Key Personnel Fee to the Sponsoring Entities if TSA does not approve key personnel to conduct enrollment and verification operations (or are responsible for managing such persons).

C. Registered Traveler Interoperability Pilot Participant Fee

As part of TSA's review of a prospective participant in the Registered Traveler Interoperability Pilot to confirm that he or she does not pose a threat to transportation or national security, TSA will conduct security threat assessments on the individuals. Applicants will submit their information through a Service Provider to AAAE, which is under agreement with TSA to collect and process biographic and biometric information and transmit the information to TSA. TSA will perform a name-based check of terrorist-related and immigration databases. The Service Provider will forward the Registered Traveler Interoperability Pilot Participant Fee to TSA through AAAE. The Registered Traveler Interoperability Pilot Participant Fee does not include any fees that a Service Provider or a Sponsoring Entity may charge for its services.

What is the Registered Traveler Interoperability Pilot Participant Fee?

TSA will charge a total annual fee of $28 per person. If the Sponsoring Entity or its Service Provider decides to pass on this fee to RT applicants, the Enrollment Provider will collect this fee from the RT applicant. The annual fee represents TSA's cost in fulfilling its responsibilities related to the oversight and operation of the Registered Traveler Interoperability Pilot and to conducting security threat assessments on RT applicants. This annual is based on the total TSA costs divided by the anticipated number of RT participants.

The costs for TSA to fulfill its oversight and operation responsibilities include direct and indirect personnel costs, physical overhead, administration, travel; and compliance verification. The costs for TSA to conduct security threat assessments includes TSA's implementation and maintenance of the appropriate systems, resources, and personnel to ensure the following: that TSA is able to perform a name-based check of terrorist-related and immigration databases; that applicant information is appropriately linked; that TSA can receive and act on the results of the security threat assessment; and that TSA can perpetually re-vet RT participants.

Will there be a refund if TSA denies an individual approval to participate in the Registered Traveler Interoperability Pilot?

TSA will not refund the Registered Traveler Interoperability Pilot Participant Fee to individuals who are not approved for participation in the Registered Traveler Interoperability Pilot based upon the results of a security threat assessment.

D. Charge for Dedicated Checkpoint Stations

Currently, TSA does not anticipate that there will be a separate screening lane that leads to a dedicated checkpoint station at any airport when the RTIP begins operation. If a Sponsoring Entity decides to create a separate screening lane for RT participants or institute a process that requires Transportation Security Officer (TSO) support beyond what TSA is currently providing for these passengers, TSA will negotiate the exact level of support and the fee necessary to match the costs of this support with the Sponsoring Entity. TSA will then charge the Sponsoring Entity the fee based upon the cost of providing services and support beyond what TSA is currently providing to the passengers. TSA plans to collect this fee from the Sponsoring Entity directly and does not plan to include this fee in the Registered Traveler Interoperability Pilot Participant Fee. The Sponsoring Entity and its Service Provider may decide, however, to pass on these costs to RT participants through their own fees.

Issued in Arlington, Virginia, on November 17, 2006.
Kip Hawley,
Assistant Secretary.

[FR Doc. E6-19898 Filed 11-22-06; 8:45 am]

BILLING CODE 9110-05-P